DEPARTMENT OF ENERGY

Federal Energy Regulatory Commission

Combined Notice of Filings #1

Take notice that the Commission received the following electric corporate filings:

Docket Numbers: EC12-76-000

Applicants: PPL Generation, LLC, AES Ironwood, L.L.C.

Description: Application for Authorization for Disposition of Jurisdictional Facilities of PPL Generation, LLC and AES Ironwood, L.L.C.

Filed Date: 2/27/12

Accession Number: 20120227-5127

Comments Due: 5 p.m. ET 3/19/12

Take notice that the Commission received the following electric rate filings:

Docket Numbers: ER12-91-002

Applicants: PJM Interconnection, L.L.C., Duke Energy Kentucky, Inc.

Description: Duke submits Amendment requesting Deferral of Action in ER12-91 and ER12-92 to be effective 1/1/2012.

Filed Date: 2/24/12

Accession Number: 20120224-5079

Comments Due: 5 p.m. ET 3/16/12

Docket Numbers: ER12-92-002

Applicants: PJM Interconnection, L.L.C., Duke Energy Kentucky, Inc.

Description: Duke submits Amendment requesting Deferral of Action in ER12-91 and ER12-92 to be effective 1/1/2012.

Filed Date: 2/24/12

Accession Number: 20120224-5080

Comments Due: 5 p.m. ET 3/16/12

Docket Numbers: ER12-682-000

Applicants: Erie Wind, LLC

Description: Supplemental information of Erie Wind, LLC.

Filed Date: 2/27/12

Accession Number: 20120227-5141

Comments Due: 5 p.m. ET 3/12/12

Docket Numbers: ER12-1013-001

Applicants: Physical Systems Integration, LLC

Description: Physical Systems Integration, LLC—Amendment to MBR Application to be effective 3/1/2012.

Filed Date: 2/24/12

Accession Number: 20120224-5090

Comments Due: 5 p.m. ET 3/16/12

Docket Numbers: ER12-1157-000

Applicants: PJM Interconnection, L.L.C., Commonwealth Edison Company

Description: ComEd submits 1st Amended Trans. Upgrade Agmt among ComEd & American Transm Co. to be effective 2/15/2012.

Filed Date: 2/24/12

Accession Number: 20120224-5155

Comments Due: 5 p.m. ET 3/16/12

Docket Numbers: ER12-1158-000

Applicants: Southwest Power Pool, Inc.

Description: 1166R15 Oklahoma Municipal Power Authority NITSA NOA to be effective 2/1/2012.

Filed Date: 2/27/12

Accession Number: 20120227-5043

Comments Due: 5 p.m. ET 3/19/12

Docket Numbers: ER12-1159-000

Applicants: California Independent System Operator Corporation

Description: Transmission Access Charge Informational Filing of the California Independent System Operator Corporation.

Filed Date: 2/24/12

Accession Number: 20120224-5182

Comments Due: 5 p.m. ET 3/16/12

Docket Numbers: ER12-1160-000

Applicants: Hampton Lumber Mills-Washington, Inc.

Description: Notice of Cancellation of Market-Based Rate Tariff of Hampton Lumber Mills-Washington, Inc.

Filed Date: 2/27/12

Accession Number: 20120227-5073

Comments Due: 5 p.m. ET 3/19/12

Docket Numbers: ER12-1161-000

Applicants: Fibrominn LLC

Description: Fibrominn LLC FERC Electric Rate Schedule No. 1 baseline eTariff to be effective 2/23/2012.

Filed Date: 2/27/12

Accession Number: 20120227-5074

Comments Due: 5 p.m. ET 3/19/12

Docket Numbers: ER12-1162-000

Applicants: PacifiCorp

Description: PAC Energy NITSA Rev 13 to be effective 2/1/2012.

Filed Date: 2/27/12

Accession Number: 20120227-5103

Comments Due: 5 p.m. ET 3/19/12

Docket Numbers: ER12-1163-000

Applicants: ATCO Power Canada Ltd.

Description: ATCO Power Canada Ltd. baseline eTariff 2012-02-22 to be effective 2/22/2012.

Filed Date: 2/27/12

Accession Number: 20120227-5106

Comments Due: 5 p.m. ET 3/19/12

Docket Numbers: ER12-1165-000

Applicants: ITC Midwest LLC

Description: Second Amendment of and Restatement of Facilities and Operating Agreement to be effective 4/27/2012.

Filed Date: 2/27/12

Accession Number: 20120227-5150

Comments Due: 5 p.m. ET 3/19/12

Take notice that the Commission received the following electric securities filings:

Docket Numbers: ES12-23-000

Applicants: Wolverine Power Supply Cooperative, Inc.

Description: Application for Authorization of the Assumption of Liabilities and the Issuance of Securities under Section 204 of the Federal Power Act of Wolverine Power Supply Cooperative, Inc.

Filed Date: 2/24/12

Accession Number: 20120224-5173

Comments Due: 5 p.m. ET 3/16/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2012.
Nathaniel J. Davis, Sr.,
Deputy Secretary.

[FR Doc. 2012-5241 Filed 3-2-12; 8:45 am]

BILLING CODE 6717-01-P